DEPARTMENT OF HOUSING AND URBAN DEVELOPMENT

[Docket No. FR-6482-N-02]

Housing Trust Fund: Fiscal Year 2025 Allocation Notice

AGENCY: Office of the Assistant Secretary for Community Planning and Development, U.S. Department of Housing and Urban Development (HUD).

ACTION: Notice of Fiscal Year 2025 funding awards.

SUMMARY: This notice announces the formula allocation amount for each eligible Housing Trust Fund (HTF) grantee. The Housing and Economic Recovery Act of 2008 (HERA) established the Housing Trust Fund to be administered by HUD. Pursuant to the Federal Housing Enterprises Financial Security and Soundness Act of 1992 (the Act), as amended by HERA, eligible HTF grantees are the 50 states, the District of Columbia, the Commonwealth of Puerto Rico, American Samoa, Guam, the Commonwealth of Northern Mariana Islands, and the United States Virgin Islands. American Samoa, Guam, the Commonwealth of Northern Mariana Islands, and the United States Virgin Islands declined the 2025 HTF grant allocation. As such, the allocation amount for each grantee is reflected as zero in Appendix A.

FOR FURTHER INFORMATION CONTACT: Peter Huber, Acting Director, Office of Affordable Housing Programs, Room 7160, Department of Housing and Urban Development, 451 Seventh Street SW, Washington, DC 20410-7000; telephone (202) 285-5130. (This is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: Section 1131 of HERA, Division A amended the Act to add a new section 1337 entitled “Affordable Housing Allocations” and a new section 1338 entitled “Housing Trust Fund.” Congress authorized the Housing Trust Fund (HTF) with the stated purpose of: (1) Increasing and preserving the supply of rental housing for extremely low-income families with incomes between 0 and 30 percent of area median income and very low-income families with incomes between 30 and 50 percent of area median income, including homeless families, and (2) increasing homeownership for extremely low-income and very low-income families. Section 1337 of the Act (12 U.S.C. 4567) requires Federal National Mortgage Association (Fannie Mae) and Federal Home Loan Mortgage Corporation (Freddie Mac) to set-aside 4.2 basis points (.042 percent) of the unpaid principal of their new mortgage purchases annually to fund the HTF and the Capital Magnet Fund. Each year, 65% of the amounts set aside by Fannie Mae and Freddie Mac are then allocated to the HTF.

Section 1338 of the Act (12 U.S.C. 4568) directs HUD to establish, through regulation, the formula for the distribution of amounts made available for the HTF. The provisions in section 1338(c)(3) of the Act (12 U.S.C. 4568(c)(3)) specify the factors to be used for the formula and priority for certain factors. The HTF implementing regulations are at 24 CFR part 93. The factors and methodology HUD uses to allocate HTF funds among eligible grantees are established in the HTF regulation at 24 CFR 93.50, 93.51, and 93.52.

The funding announced for Fiscal Year 2025 through this notice is $223,024,239.90. Appendix A to this notice provides the HTF allocation amount for each grantee.

Bryan W. Horn,
Acting Principal Deputy Assistant Secretary for Community Planning and Development.

Appendix A: FY 2025 Housing Trust Fund Allocation Amounts

Grantee | FY 2025 allocation
1. Alabama | $3,001,259.36
2. Alaska | 3,134,373.20
3. Arizona | 3,463,424.30
4. Arkansas | 3,001,259.36
5. California | 23,448,689.68
6. Colorado | 3,311,032.38
7. Connecticut | 3,134,373.20
8. Delaware | 3,134,373.20
9. District of Columbia | 3,134,373.20
10. Florida | 8,528,463.49
11. Georgia | 4,805,897.84
12. Hawaii | 3,134,373.20
13. Idaho | 3,001,259.36
14. Illinois | 6,654,452.74
15. Indiana | 3,296,362.68
16. Iowa | 3,134,373.20
17. Kansas | 3,134,373.20
18. Kentucky | 3,134,373.20
19. Louisiana | 3,134,373.20
20. Maine | 3,134,373.20
21. Maryland | 3,419,311.15
22. Massachusetts | 4,595,705.43
23. Michigan | 4,395,993.44
24. Minnesota | 3,134,373.20
25. Mississippi | 3,001,259.36
26. Missouri | 3,242,186.84
27. Montana | 3,134,373.20
28. Nebraska | 3,134,373.20
29. Nevada | 3,134,373.20
30. New Hampshire | 3,134,373.20
31. New Jersey | 5,685,377.90
32. New Mexico | 3,134,373.20
33. New York | 14,344,327.16
34. North Carolina | 4,712,236.50
35. North Dakota | 3,134,373.20
36. Ohio | 4,886,255.62
37. Oklahoma | 3,134,373.20
38. Oregon | 3,195,793.58
39. Pennsylvania | 5,658,299.76
40. Rhode Island | 3,001,259.36
41. South Carolina | 3,134,373.20
42. South Dakota | 3,001,259.36
43. Tennessee | 3,286,783.59
44. Texas | 9,611,392.27
45. Utah | 3,134,373.20
46. Vermont | 3,134,373.20
47. Virginia | 4,144,711.61
48. Washington | 4,255,055.41
49. West Virginia | 3,134,373.20
50. Wisconsin | 3,295,885.42
51. Wyoming | 3,134,373.20
52. Puerto Rico | 688,461.35
53. America Samoa | 0
54. Guam | 0
55. Northern Marianas | 0
56. Virgin Islands | 0
Total | 223,024,239.90

[FR Doc. 2025-22177 Filed 12-5-25; 8:45 am]

BILLING CODE 4210-67-P